DEPARTMENT OF ENERGY

Federal Energy Regulatory Commission

[Moon Lake Electric Association, Inc.; Project No. 190-104]

Notice of Intent To File License Application, Filing of Pre-Application Document, and Approving Use of the Traditional Licensing Process

a. Type of Filing: Notice of Intent to File License Application and Request to Use the Traditional Licensing Process.

b. Project No.: 190-104.

c. Date Filed: May 30, 2014.

d. Submitted By: Moon Lake Electric Association, Inc.

e. Name of Project: Uintah Hydroelectric Project.

f. Location: On Uinta River in Duchesne County, Utah. The project is located on federal lands of Ashley National Forest and tribal lands of the Uintah and Ouray Native American Reservation.

g. Filed Pursuant to: 18 CFR 5.3 of the Commission's regulations.

h. Potential Applicant Contact: M. Jared Griffiths, Engineering Manager, Moon Lake Electric Association, Inc., P.O. Box 278, 800 West U.S. Highway 40, Roosevelt, Utah 84066-0278; (435) 722-5456; jgriffiths@mleainc.com.

i. FERC Contact: Jennifer Adams at (202) 502-8087; or email at jennifer.adams@ferc.gov.

j. Moon Lake Electric Association, Inc. (Moon Lake Electric) filed its request to use the Traditional Licensing Process on May 30, 2014. Moon Lake Electric provided public notice of its request on June 5, 2013. In a letter dated July 15, 2014, the Director of the Division of Hydropower Licensing approved Moon Lake Electric's request to use the Traditional Licensing Process.

k. With this notice, we are initiating informal consultation with: (a) The U.S. Fish and Wildlife Service and/or NOAA Fisheries under section 7 of the Endangered Species Act and the joint agency regulations thereunder at 50 CFR, Part 402; (b) NOAA Fisheries under section 305(b) of the Magnuson-Stevens Fishery Conservation and Management Act and implementing regulations at 50 CFR 600.920; and (c) the California State Historic Preservation Officer, as required by section 106, National Historical Preservation Act, and the implementing regulations of the Advisory Council on Historic Preservation at 36 CFR 800.2.

l. With this notice, we are designating Moon Lake Electric as the Commission's non-federal representative for carrying out informal consultation, pursuant to section 7 of the Endangered Species Act, section 305 of the Magnuson-Stevens Fishery Conservation and Management Act, and section 106 of the National Historic Preservation Act.

m. Moon Lake Electric filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

o. Register online at http://www.ferc.gov/docs-filing/esubscription.asp to be notified via email of new filing and issuances related to this or other pending projects. For assistance, contact FERC Online Support.

Dated: July 15, 2014.
Kimberly D. Bose,
Secretary.

[FR Doc. 2014-17064 Filed 7-18-14; 8:45 am]

BILLING CODE 6717-01-P